FEDERAL COMMUNICATIONS COMMISSION

Radio Broadcasting Services; AM or FM Proposals To Change the Community of License

AGENCY: Federal Communications Commission.

ACTION: Notice.

DATES: The agency must receive comments on or before January 14, 2019.

ADDRESSES: Federal Communications Commission, 445 Twelfth Street SW, Washington, DC 20554.

FOR FURTHER INFORMATION CONTACT: Rolanda F. Smith, 202-418-2054.

SUPPLEMENTARY INFORMATION: The following applicants filed AM or FM proposals to change the community of license: ETERNITY MEDIA GROUP WERM, LLC, WERM(AM), Fac. ID No. 32848, Channel 1220 kHz, To AFRICA TOWN, AL, From FAIRHOPE, AL, BP-20180723AAR; HI-LINE RADIO FELLOWSHIP INC., KNPC(FM), Fac. ID No. 177237, Channel 203C3, To HARDIN, MT, From COLSTRIP, MT, BPED-20180723AAK; FLORIDA KEYS MEDIA, LLC, WAVK(FM), Fac. ID No. 23294, Channel 249C1, To CUDJOE KEY, FL, From MARATHON, FL, BPH-20181012AAN; UNIVISION RADIO STATIONS GROUP, INC., KRGT(FM), Fac. ID No. 11614, Channel 257C2, To SUNRISE MANOR, NV, From INDIAN SPRINGS, NV, BPH-20180905ABJ; TOWNSQUARE MEDIA BOZEMAN LICENSE, LLC, KXLB(FM), Fac. ID No. 30566, Channel 264C1, To CHURCHILL, MT, From LIVINGSTON, MT, BPH-20180828ABV; and FULLER BROADCASTING INTERNATIONAL, LLC, WWRX(FM), Fac. ID No. 58731, Channel 299A, To NORTH STONINGTON, CT, From BRADFORD, RI, BPH-20180814AAD.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
Nazifa Sawez,
Assistant Chief, Audio Division, Media Bureau.

[FR Doc. 2018-24880 Filed 11-14-18; 8:45 am]

BILLING CODE 6712-01-P